DEPARTMENT OF TRANSPORTATION

Federal Aviation Administration

Notice of Availability of a Draft Environmental Assessment for a Proposed Airport Traffic Control Tower and Base Building, University of Illinois Willard Airport, Savoy, IL

AGENCY: Federal Aviation Administration (FAA), DOT.

ACTION: Notice of Availability of a Draft Environmental Assessment for a Proposed Airport Traffic Control Tower and Base Building, University of Illinois Willard Airport, Savoy, Illinois.

SUMMARY: The Federal Aviation Administration (FAA) proposes to fund, construct, and operate a new Airport Traffic Control Tower (ATCT) and Base Building at the University of Illinois Willard Airport (CMI), Savoy, Illinois. The FAA's preferred alternative is to construct the ATCT at a location on the east central portion of CMI. The purpose and need of the proposed project is to enhance visibility and improve safety of airport movement areas, have the capability to meet existing and future operational and administrative expansion requirements, and improve operational efficiency of the facility because the current ATCT facility is a non-standard design of insufficient height and size.

The FAA has prepared a Draft Environmental Assessment (DEA) in conformance with the requirements of the National Environmental Policy Act of 1969 (NEPA) and FAA Order 1050.1E, Environmental Impacts: Policies and Procedures. The DEA analyzes the potential environmental impacts that may result from construction and operation of the proposed new ATCT and Base Building at the proposed site, as well as the no action alternative (i.e., not constructing and operating the new ATCT). As part of the proposed project, the DEA also analyzes the potential environmental impacts that may result from replacement and operation of an instrument landing system antenna; and the upgrade and operation of a Very High Frequency Omnidirectional Range with Tactical Air Navigation (VORTAC) facility. The DEA is available for public review during a 30-day public comment period at the following libraries: Champaign Public Library, 200 W Green St., Champaign, IL 61820; Tolono Public Library, 111 E. Main, Tolono, IL 61880.

ADDRESSES: The FAA will accept written comments on the DEA until close of business on June 22, 2011. Comments on the DEA may be sent to: Ms. Virginia Marcks, FAA, AJW-C14D, 2300 East Devon Ave., Des Plaines, IL 60018, fax 847-294-7698, e-mail virginia.marcks@faa.gov. Copies of the Draft EA on compact disk may be obtained by contacting Ms. Virginia Marcks. Comments received on the DEA during the public comment period will be addressed in the Final Environmental Assessment.

FOR FURTHER INFORMATION CONTACT: Ms. Virginia Marcks, Manager, Infrastructure Engineering Center, Federal Aviation Administration, 2300 East Devon Avenue, Des Plaines, Illinois 60018. Telephone number: 847-294-7494. E-mail: virginia.marcks@faa.gov.

Issued in Des Plaines, Illinois, May 6, 2011.
Virginia Marcks,
Manager, Infrastructure Engineering Center, Chicago, AJW-C14D, Central Service Area.

[FR Doc. 2011-11696 Filed 5-11-11; 8:45 am]

BILLING CODE 4910-13-P